DEPARTMENT OF HOMELAND SECURITY

Coast Guard

[USCG-2001-10486]

Standards for Living Organisms in Ships' Ballast Water Discharged in U.S. Waters; Draft Programmatic Environmental Impact Statement

AGENCY: Coast Guard, DHS.

ACTION: Notice of availability and request for comments.

SUMMARY: The Coast Guard announces the availability of a Draft Programmatic Environmental Impact Statement (DPEIS) for the rulemaking entitled “Standards for Living Organisms in Ships' Ballast Water” (Docket No. USCG-2001-10486), published elsewhere in today's issue of the Federal Register. This DPEIS provides an assessment of the potential environmental impacts associated with the proposed establishment of ballast water discharge standards. The standards would be used to approve alternative ballast water management methods that are effective in preventing or reducing the introduction of nonindigenous species via discharged ballast water into United States waters. We request your comments on this DPEIS.

DATES: Comments and related material must either be submitted to our online docket via http://www.regulations.gov on or before November 27, 2009 or reach the Docket Management Facility by that date.

ADDRESSES: You may submit comments identified by docket number USCG-2001-10486 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, call or e-mail Mr. John Morris, Project Manager, Environmental Standards Division, U.S. Coast Guard Headquarters, telephone 202-372-1433, e-mail: John.C.Morris@uscg.mil. If you have questions on viewing or submitting material to the docket, call Renee V. Wright, Program Manager, Docket Operations, telephone 202-366-9826.

SUPPLEMENTARY INFORMATION:

Public Participation and Request for Comments

We encourage you to submit comments and related material on the Draft Programmatic Environmental Impact Statement (DPEIS). All comments received will be posted, without change, to http://www.regulations.gov and will include any personal information you have provided.

Submitting comments: If you submit a comment, please include the docket number for this notice (USCG-2001-10486) and provide a reason for each suggestion or recommendation. You may submit your comments and material online, or by fax, mail or hand delivery, but please use only one of these means. We recommend that you include your name and a mailing address, an e-mail address, or a telephone number in the body of your document so that we can contact you if we have questions regarding your submission.

To submit your comment online, go to http://www.regulations.gov and click on the “submit a comment” box, which will then become highlighted in blue. Insert “USCG-2001-10486” in the Keyword box, click “Search”, and then click on the balloon shape in the Actions column. If you submit your comments by mail or hand delivery, submit them in an unbound format, no larger than 8½; by 11 inches, suitable for copying and electronic filing. If you submit them by mail and would like to know that they reached the Facility, please enclose a stamped, self-addressed postcard or envelope. We will consider all comments and material received during the comment period.

Viewing the comments and DPEIS: To view the comments and the DPEIS, go to http://www.regulations.gov, enter the docket number for this rulemaking (USCG-2001-10486) in the Keyword box, and click “Search”. If you do not have access to the Internet, you may view the docket by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act system of records notice regarding our public dockets in the January 17, 2008, issue of the Federal Register (73 FR 3316).

Background and Purpose

The United States Coast Guard (USCG) has evaluated the impacts to the environment from a range of alternative ballast water discharge standards (BWDS). BWDS would be used to approve ballast water management systems (BWMS) that are at least as effective as ballast water exchange in preventing or reducing the introduction of nonindigenous species (NIS) via discharged ballast water.

Ballast water is taken on by a vessel to increase the water draft, change the trim, regulate the stability, or maintain stress loads within acceptable operational limits. The term NIS refers to organisms found outside of their native or historical range. In cases where they invade ecosystems, NIS may alter aquatic and marine ecosystems and biodiversity, impact commercial and recreational fisheries, cause infrastructure damage, contribute to potential risks to human health, and generally create detrimental economic impacts. Ballast water discharge (BWD) is a major pathway for NIS introduction from vessels operating in or entering United States waters.

On September 26, 2003, the USCG announced its proposed action to establish BWDS that would be effective in preventing the introduction and spread of NIS via discharged ballast water. (68 FR 55559). This Draft Programmatic Environmental Impact Statement (DPEIS) addresses the effects on the human and natural environment of five alternatives for the proposed regulatory action to establish BWDS. This DPEIS is issued in conjunction with a Notice of Proposed Rulemaking, published elsewhere in today's Federal Register. The DPEIS will be used to make an informed decision about BWDS and to understand the nationwide environmental and socioeconomic implications of the decision.

Draft Programmatic Environmental Impact Statement (DPEIS)

We request your comments on the alternatives analyzed in the DPEIS, methodologies used in the DPEIS, and possible sources of data or information not included in the DPEIS. Your comments will be considered in preparing the Final Programmatic Environmental Impact Statement (FPEIS).

The USCG is the lead federal agency for this action under the Nonindigenous Aquatic Nuisance Prevention and Control Act of 1990 (NANPCA) as reauthorized and amended in the National Invasive Species Act of 1996 (NISA).

Dated: August 17, 2009.
F.J. Sturm,
Acting Director of Commercial Regulations and Standards, U.S. Coast Guard.

[FR Doc. E9-20313 Filed 8-27-09; 8:45 am]

BILLING CODE P